Presidential Determination No. 2021-08 of June 11, 2021

Unexpected Urgent Refugee and Migration Needs

Memorandum for the Secretary of State

By the authority vested in me as President by the Constitution and the laws of the United States of America, including section 2(c)(1) of the Migration and Refugee Assistance Act of 1962 (22 U.S.C. 2601(c)(1)) (MRAA), I hereby determine, pursuant to section 2(c)(1) of the MRAA, that it is important to the national interest to furnish assistance under the MRAA in an amount not to exceed $46 million from the United States Emergency Refugee and Migration Assistance Fund for the purpose of meeting unexpected urgent refugee and migration needs, including through contributions to international organizations by the Bureau of Population, Refugees, and Migration of the Department of State, related to the humanitarian needs of vulnerable refugees and migrants in Central America and third countries in the region.

You are authorized and directed to submit this determination to the Congress, along with the accompanying Justification, and to publish this determination in the Federal Register.

THE WHITE HOUSE,

Washington, June 11, 2021

[FR Doc. 2021-13208

Filed 6-21-21; 8:45 am]

Billing code 4710-10-P